DEPARTMENT OF ENERGY

President's Council of Advisors on Science and Technology

AGENCY: Office of Science, Department of Energy.

ACTION: Notice of cancellation of open teleconference.

SUMMARY: On November 25, 2016, the Department of Energy (DOE) published a notice of open teleconference scheduled for December 12, 2016, of the President's Council of Advisors on Science and Technology. This notice announces the cancellation of this meeting. The meeting is being cancelled because the board will not have a quorum due to scheduling conflicts by members.

DATES: The teleconference scheduled for December 12, 2016, announced in the November 25, 2016, issue of the Federal Register (FR Doc. 2016-28281, 81 FR 227), is cancelled.

FOR FURTHER INFORMATION CONTACT: Ms. Jennifer Michael at email: Jennifer_L_Michael@ostp.eop.gov or by phone: (202) 456-4444.

Issued at Washington, DC on November 29, 2016.
LaTanya R. Butler,
Deputy Committee Management Officer.

[FR Doc. 2016-29070 Filed 12-2-16; 8:45 am]

BILLING CODE 6450-01-P